DEPARTMENT OF JUSTICE

Notice of Lodging of Consent Decree Under the Clean Air Act

Notice is hereby given that on May 16, 2012 a proposed Consent Decree (“Decree”) in United States v. C&S Wholesale Grocers, Inc., Civil Action No. 12-30091 was lodged with the United States District Court for the District of Massachusetts.

The Decree resolves claims of the United States against C&S Wholesale Grocers, Inc. under the Clean Air Act, 42 U.S.C. 7401-7671q, for injunctive relief and recovery of civil penalties in connection with the defendant's operation of cold storage warehouse in Hatfield, Massachusetts, which uses anhydrous ammonia as the refrigerant. The Decree requires the defendant to pay $126,700 in civil penalties; to purchase $10,405 in emergency response equipment for the Town of Hatfield; engage a third-party expert to audit the refrigeration system and recommend any necessary changes; and implement any changes recommended by the expert.

The Department of Justice will receive for a period of thirty (30) days from the date of this publication comments relating to the Decree. Comments should be addressed to the Assistant Attorney General, Environmental and Natural Resources Division, and either emailed to pubcomment-ees.enrd@usdoj.gov or mailed to P.O. Box 7611, U.S. Department of Justice, Washington, DC 20044-7611, and should refer to United States v. C&S Wholesale Grocers, Inc., 90-11-2-09793.

During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy”(EESCDCopy.ENRD@usdoj.gov), fax no. (202) 514-0097, phone confirmation number (202) 514-5271. If requesting a copy from the Consent Decree Library by mail, please enclose a check in the amount of $16.00 (25 cents per page reproduction cost) payable to the U.S. Treasury or, if requesting by email or fax, forward a check in that amount to the Consent Decree Library at the address given above.

Ronald Gluck,
Assistant Section Chief, Environmental Enforcement Section, Environment and Natural Resources Division.

[FR Doc. 2012-12578 Filed 5-23-12; 8:45 am]

BILLING CODE 4410-15-P